DEPARTMENT OF AGRICULTURE

Forest Service

Bridger-Teton National Forest—Pinedale Ranger District; Wyoming; Moose-Gypsum Environmental Impact Statement

AGENCY: Forest Service, USDA.

ACTION: Notice of intent to prepare an environmental impact statement.

SUMMARY: The Forest Service proposes a number of project actions within the Moose-Gypsum Project Area. These actions are designed to move these areas closer to the desired Future Conditions as described in the Bridger-Teton National Forest's Land and Resource Management Plan. The Pinedale Ranger District is proposing a 1,500-acre timber harvest in conifer stands; 1,100 acres of mechanical aspen stand improvement treatments; 600 acres of Wildland/Urban Interface fuels treatments; 29,000 acres of sage/grass/aspen treatments to be accomplished primarily with prescribed burning and possibly with the use of an herbicide sage-reduction treatment on approximately 8,000 acres. Watershed restoration projects, such as the replacement of storm damaged culverts and rehabilitation of damaged stream banks on the Green River are also projects included in this proposal. Recreation project improvements included as a part of this analysis are a rerouting of the district's snowmobile trail around the elk winter feed ground, the development of a dispersed campsite management plan, and new trailhead design and reconstruction. Road management improvements, including the refinement of the existing travel plan to consider All Terrain Vehicle routes and wilderness trespass issues, the obliteration and rehabilitation of a roadbed within the Wilderness, and an upgrade of the Green River Lakes Road to a higher standard are also proposed for analysis in this environmental impact statement.

DATES: Comments concerning the scope of the analysis must be received by November 12, 2004. The draft environmental impact statement is expected May 2005, and the final environmental impact statement is expected October 2005.

ADDRESSES: Send written comments to Craig Trulock, District Ranger, Pinedale Ranger District, P.O. Box 220, Pinedale, Wyoming 82941. Electronic comments may be sent to; comments-intermtn-bridger-teton-pinedale@fs.fed.us with the subject line “Moose-Gypsum EIS.”

FOR FURTHER INFORMATION CONTACT: Craig Trulock, District Ranger, Pinedale Ranger District, Bridger-Teton National Forest, U.S. Forest Service 307-367-4326.

SUPPLEMENTARY INFORMATION: The Upper Green River Watershed is approximately 25 miles north of Pinedale, Wyoming, in the Green River drainage, on the west slope of the Wind River mountain range. The smaller project area within the boundaries of the Upper Green River Watershed is approximately 110,397 acres of National Forest System lands administered by the Pinedale Ranger District of the Bridger-Teton National Forest. The Upper Green River Watershed is comprised of the tributary creeks of the Green River and these include Moose Creek, Gypsum Creek, Roaring Fork, Boulder Creek and Wagon Creek. The subwatershed of two of these creeks, Moose Creek and Gypsum Creek and portion of the Green River watershed itself, are defined as the project area to be analyzed in this environmental impact statement. The legal description of the project area under consideration includes portions of T37N, R109W; T38N, R109/110W; T39N, R108/109/110W; T40N, R108/109/110W.

Purpose and Need for Action

The Moose-Gypsum EIS is being analyzed for the purpose of responding to the goals and objectives of the Bridger-Teton Forest Plan, in order to move the project area toward the Desired Future Conditions described in that plan. The 1999 Upper Green Landscape Assessment (LSA) analyzed integrated resource conditions in the project area. The LSA more specifically identified and described Desired Future Conditions for a variety of resources. In 2004, the Gypsum Watershed Analysis was completed, further clarifying the Desired Future Conditions for some resources. The Purpose and Need for this project is to consider actions that attain, or take the initial steps toward attaining, these resources' Desired Future Conditions. There are a number of com[ponents related to current resource conditions that are in need of improvement, and these include:

• Reintroduction of fire into the area as a natural disturbance tool. Fire will be used to achieve a number of objectives ranging from habitat improvement, rangeland improvement, fuels reduction, and treatment of Aspen stands that are predominantly old age classes, are being encroached on by conifers, and are declining in growth and health.

• Attention to the overall health of the watersheds of Moose and Gypsum Creeks through road surface improvement, culvert replacement and other watershed restoration activities.

• Modification of the compositions of some of the vegetative species within the project area in order to move them toward historic vegetation compositions, which is the Desired Future Conditions for these vegetation species. A majority of the conifer stands in the project area are in older age classes that are declining in growth and health, accumulating heavy fuels loads and higher tree densities than are healthy for their site conditions. The Desired Future Condition would be to maintain a healthy variety: a percentage of stands in seedling/sapling stages, for example, with preservation of the forest structure in snags, down logs, tree clumps, lower tree densities and promotion of natural regeneration.

• Reduction of the risk of catastrophic wildfire by reduction of the hazardous fuels loads around private land through vegetation management.

• Management of the timber resource for production of saw timber and other wood products from suitable timberlands available for timber harvest on an even-flow, long term, sustained yield basis, and in an economically-efficient manner.

• Provision of a diversity of opportunities for resource uses that contribute to the local and regional economies of northwestern Wyoming.

• Improvement of recreation opportunities and the quality of recreational experiences through the development of a dispersed camping plan for the project area to protect sensitive areas such as streams and river banks, updating the 1996 Pinedale Ranger District's Travel Management Plan in order to address Off-Highway Vehicle issues such as wilderness trespass, closure violations, and to ensure that choices for open and closed roads are appropriate.

Proposed Action

A Proposed Action is defined early in the project-level planning process. It serves as a starting point for the Interdisciplinary Team and gives the public and agencies information on which to focus comments. The Proposed action presented here will be updated using the comments received, preliminary analysis and additional field information obtained prior to the Draft EIS. The Proposed Action of this project is to complete a variety of projects within the area under analysis to meet Desired Future Conditions, goals and objectives identified for the various resources under consideration in this EIS. Vegetation treatments within the project are designed to move the vegetation to more historic species and age class compositions. These vegetation treatments will take place over an extended time period of up to ten years.

Following are general descriptions of the type of projects being proposed and analyzed:

1. Conifer Vegetation Treatments. Conifer treatments are proposed to thin overstocked conifer forests while maintaining a forested appearance. The objective is to leave the healthiest trees of diverse species while reducing losses caused by insects and disease and salvaging wood products. These treatments will take place in older stands where tree growth is greatly reduced or where mortality of trees exceeds growth. The remaining trees will better utilize the nutritional resources available on their sites and continuously provide habitat for forest-dependent species. Additional treatments will provide for regeneration of the declining Lodgepole pine, Whitebark pine and mixed conifer forests and enhanced age class diversity across the landscape. These treatments entail removing most merchantable trees through a commercial timber sale. Regeneration of healthy new stands will be ensured by planting with Lodgepole pine or Englemann spruce and/or providing for natural regeneration. Individual and groups of healthy seed trees and snags, and groups of healthy non-merchantable trees, will be left for seed, habitat, and diversity, where they are available. Age class diversity is important to reduce losses caused by insects and disease and will reflect historically occurring conditions. Treatments to be analyzed include: shelterwood harvest, overstory-removal harvest, clearcut harvest, group-selection harvest and salvage harvest.

2. Aspen Treatments. A combination of mechanical treatments (which may include harvesting, pushing over, or other regeneration methods) and burning (broadcast and pile) of aspen and encroaching conifer to rejuvenate aspen stands.

3. Sage and Grass Treatments. Primarily burning with some use of sagebrush herbicides. The objectives are wildlife habitat improvement, rangeland improvement, sage encroached aspen, and reestablishment of diverse age structures.

4. Fuels Reduction Treatments. A combination of mechanical treatments and burning (broadcast and pile) will be utilized to reduce fuel loadings around private lands. Down wood will be removed, understory ladder fuels will be pruned and a thinning from below of dense understory will open the understory to reduce risk from crown fires.

5. Watershed Improvements. Forest roads will be improved to minimize existing sedimentation into adjacent streams, improve drainage, and reduce continual maintenance needs. This will entail culvert replacement and maintenance as part of the harvest operations. Existing roads provide access to many of the treatment areas. Some additional skid roads may be needed to reach into the stands. After treatments are completed, these skid roads would be closed and obliterated and allowed to regenerate naturally, or seeded, depending upon the site.

6. Travel Plan Update. The Pinedale Ranger District's Travel Plan needs to be updated in some areas within the Gypsum Creek drainage and the Upper Green River drainage. Several problems exist including wilderness trespass, erosion problems that are adding sediment to streams and travel in areas that have been closed. These could lead to road closures of some routes, and maintenance and relocation of other routes that are causing problems. Several opportunities exist to provide additional travel routes open to OHVs. These include constructing short segments connecting two existing travel routes providing loop OHV trails, and provide addition OHV routes in certain other areas.

7. Recreation Planning. A dispersed camping plan has been developed to establish new dispersed campsites while closing some dispersed sites that are in sensitive areas such as next to stream banks. Several problems exist along the Green River and Gypsum Creek, where dispersed camp sites are too close to the streams. This has caused trampling of the vegetation along the stream banks leading to increased erosion and sedimentation into the streams. The objective will be to provide dispersed camping opportunities while correcting erosion and sedimentation problems. Where opportunities allow, the dispersed campsites will be moved 200 feet away from the streams. Where the use cannot be moved, those campsites will be closed and other campsites in adjacent areas will be opened to accommodate this use.

Possible Alternatives

The Environmental Impact Statement will analyze at least three alternatives: The “No Action” alternative, which will detail the consequences of doing nothing in all the project categories included in the variety of projects of the Proposed Action; the effects of the “Proposed Action” will be analyzed; and an “Alternative Action” may be formulated from acceptable portions of the Proposed Action. The scoping process and environmental analysis will evaluate the feasibility of alternatives to the proposed action.

Responsible Official

Craig Trulock, District Ranger, Pinedale Ranger District, P.O. Box 220, Pinedale, Wyoming 82941.

Nature of Decision To Be Made

The decision, which will be based upon the analyses described above, will be whether or not the Proposed Project, or portions of the Proposed Project, will further the Pinedale District's attainment of the Desired Future Conditions described in the Bridger-Teton National Forest's Land and Resource Management Plan. The decision will also identify needed mitigation measures during the analysis process, in addition to the any prescribed in the Land and Resource Management Plan.

Scoping Process

The Forest Service is seeking information, comments, and assistance from individuals, organizations and Federal, State, and local agencies that may be interested in or affected by the proposed action (36 CFR 219.6).

Public comments will be used and disclosed in the environmental analysis documented in the Moose-Gypsum EIS. Public participation will be solicited by notifying in person, and/or by mail, known interested and affected parties. A legal notice and news releases will be used to give the public general notice. Open houses will be held from 4 p.m. to 7 p.m. on Wednesday, November 3, 2004. Forest Service and Bionomics, Inc., (environmental consultants) will be available to explain the project, answer questions and record public input.

A reasonable range of alternatives will be evaluated and reasons will be given for eliminating alternatives from detailed study. A “no-action alternative” is required by law, which means that the consequences of not doing the Proposed Action will be evaluated. Alternatives will be formulated in response to public issues, management concerns, existing condition reports and resource opportunities identified during the scoping process.

Comments Requested

This Notice of Intent initiates the scoping process which guides the development of the Moose-Gypsum Environmental Impact Statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 30 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 2.1.)

Dated: October 14, 2004.
Craig Trulock,
District Ranger, Pinedale Ranger District, Bridger-Teton National Forest.

[FR Doc. 04-23614 Filed 10-20-04; 8:45 am]

BILLING CODE 3410-11-M